SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before September 30, 2005.

ADDRESSES: Send all comments regarding whether this information collection is necessary for the proper performance of the function of the agency, whether the burden estimates are accurate, and if there are ways to minimize the estimated burden and enhance the quality of the collection, to Veronica Dymond, Public Affairs Specialist, Office of Communications and Public Liaison, Small Business Administration, 409 3rd Street SW., Suite 7450, Wash, DC 20416

FOR FURTHER INFORMATION CONTACT: Veronica J. Dymond, Public Affairs Specialist, 202-205-6746 veronica.dymond@sba.gov Curtis B. Rich, Management Analyst, 202-205-7030 curtis.rich@sba.sba

SUPPLEMENTARY INFORMATION: Title: “Small Business Week Award Nominees.”

Description of Respondents: Entrepreneurs and Small Business owners nominated for SBA's National Small Business Week awards Nominations are received by SBA's district, regional, and headquarters offices.

Form No: 2273.

Annual Responses: 600.

Annual Burden: 450.

Jacqueline White,
Chief, Administrative Information Branch.

[FR Doc. 05-15116 Filed 7-29-05; 8:45 am]

BILLING CODE 8025-01-P